CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the proposed renewal of its AmeriCorps*VISTA Recovery Act Progress Report Supplement (OMB Control Number 3045-0131), the previously approved Progress Report will expire on September 30, 2009.

This extension without changes reflects the Corporation's intent to continue to collect data around the results of Recovery Act funded VISTA activities.

DATES: Written comments must be submitted to the office listed in the ADDRESSES section by June 1, 2009.

ADDRESSES: You may submit comments, identified by the title of the information collection activity, by any of the following methods:

(1) By Mail Sent to: Corporation for National and Community Service, Attn. Craig Kinnear, Program Analyst, Room 9103A, 1201 New York Avenue, NW., Washington, DC 20525.

(2) By hand delivery or by courier to the Corporation's mailroom at Room 8100 at the mail address given in paragraph (1) above, between 9 a.m. and 4 p.m. Monday through Friday except Federal holidays.

(3) By Fax to: (202) 565-2789, Attention Mr. Craig Kinnear, Program Analyst.

(4) Electronically through the Corporation's E-Mail Address System: ckinnear@cns.gov.

FOR FURTHER INFORMATION CONTACT: Craig Kinnear (202) 606-6708 or by e-mail at ckinnear@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Minimize the burden of the collection of information on those who are to respond, including through the use of appropriate automated, electronic, mechanical, or other technological collection techniques or other forms of information technology (e.g., permitting electronic submissions of responses).

Background

The VISTA Recovery Act Progress Report Supplement (VRPRS) is designed to collect data related to the outcomes and outputs of Recovery Act funded VISTA Members and to allow Americorps-VISTA to report on those activities as required by the legislation.

Current Action

The Corporation seeks to continue the use of the VISTA Recovery Act Progress Report Supplement in order to gather data on key performance outputs and outcomes of Recovery Act funded VISTA Members; to measure the effectiveness of Recovery Act funded VISTA Members in addressing primary areas of need as identified in the American Recovery and Reinvestment Act; and, to report to the Executive branch and general public the results of Recovery Act funded VISTA placements.

Type of Review: Extension without change of a currently approved collection.

Agency: Corporation for National and Community Service.

Title: AmeriCorps*VISTA Recovery Act Progress Report Supplement (VRPRS).

OMB Number: 3045-0131.

Agency Number: None.

Affected Public: AmeriCorps*VISTA Sponsoring Organizations.

Total Respondents: 950.

Frequency: Quarterly.

Average Time per Response: 1 hour.

Estimated Total Burden Hours: 3,800.

Total Burden Cost (Capital/Startup): None.

Total Burden Cost (Operating/Maintenance): None.

Comments submitted in response to this notice will be summarized and/or included in the request for Office of Management and Budget approval of the information collection request; they will also become a matter of public record.

Dated: March 26, 2009.
Paul Davis,
Acting Director, AmeriCorps*VISTA.

[FR Doc. E9-7253 Filed 3-31-09; 8:45 am]

BILLING CODE 6050-$$-P